DEPARTMENT OF COMMERCE

International Trade Administration

[A-433-811, A-570-985]

Xanthan Gum From Austria and the People's Republic of China: Postponement of Preliminary Determinations of Antidumping Duty Investigations

AGENCY: Import Administration, International Trade Administration, Department of Commerce.

DATES: October 26, 2012.

FOR FURTHER INFORMATION CONTACT: Karine Gziryan (Austria) or Brandon Farlander (People's Republic of China), AD/CVD Operations, Office 4, Import Administration, International Trade Administration, U.S. Department of Commerce, 14th Street and Constitution Avenue NW., Washington, DC 20230, telephone: (202) 482-4081 or (202) 482-0182, respectively.

SUPPLEMENTARY INFORMATION:

Postponement of Preliminary Determinations

On July 2, 2012, the Department of Commerce (the “Department”) published a notice of initiation of antidumping duty investigations of xanthan gum from Austria and the People's Republic of China.¹ The notice of initiation stated that the Department, in accordance with section 733(b)(1)(A) of the Tariff Act of 1930, as amended (the “Act”), and 19 CFR 351.205(b)(1), would issue its preliminary determinations for these investigations, unless postponed, no later than 140 days after the date of the initiation. The preliminary determinations of these antidumping duty investigations are currently due no later than November 12, 2012.

¹ See Xanthan Gum From Austria and the People's Republic of China: Initiation of Antidumping Duty Investigations, 77 FR 39210 (July 2, 2012).

On October 12, 2012, CP Kelco U.S. (“Petitioner”), pursuant to 19 CFR 351.205(b)(2) and (e), made a timely request for postponement of the preliminary determinations in these investigations.² Petitioner requested a 50-day postponement of the preliminary determinations in order to provide the Department with sufficient time to review the questionnaire responses and issue appropriate requests for clarification and additional information.

² See Letter from Petitioner to the Secretary of Commerce, “Xanthan Gum From Austria: Request to Fully Extend Preliminary Determination” (October 12, 2012) and Letter from Petitioner to the Secretary of Commerce, “Xanthan Gum From the People's Republic of China: Request to Fully Extend Preliminary Determination” (October 12, 2012).

For the reasons stated above and because there are no compelling reasons to deny the request, the Department, in accordance with section 733(c)(1)(A) of the Act, is postponing the deadline for the preliminary determinations to no later than 190 days after the date on which the Department initiated these investigations. Therefore, the new deadline for issuing these preliminary determinations is January 2, 2013.³

³ Because the deadline, January 1, 2013, falls on a national holiday the deadline is postponed until the next business day. See Notice of Clarification: Application of “Next Business Day” Rule for Administrative Determination Deadlines Pursuant to the Tariff Act of 1930, as Amended, 70 FR 24533 (May 10, 2005).

This notice is issued and published pursuant to section 733(c)(2) of the Act and 19 CFR 351.205(f)(1).

Dated: October 19, 2012.
Paul Piquado,
Assistant Secretary for Import Administration.

[FR Doc. 2012-26409 Filed 10-25-12; 8:45 am]

BILLING CODE 3510-DS-P